DEPARTMENT OF ENERGY

Federal Energy Regulatory Commission

[Docket No. RP02-233-001]

Florida Gas Transmission Company; Notice of Compliance Filing

July 12, 2002.

Take notice that on July 3, 2002, Florida Gas Transmission Company (FGT) tendered for filing as part of its FERC Gas Tariff, Third Revised Volume No. 1, the following tariff sheets to become effective July 1, 2002:

Substitute Tenth Revised Sheet No. 102B

Substitute Sixth Revised Sheet No. 173

FGT states that these tariff sheets are being filed in compliance with the Commission Order issued June 27, 2002 in the Docket No. RP02-233-000. FGT states that on April 26, 2002, FGT filed revised tariff sheets to comply with Order No. 587-N (April 26 Filing). Subsequently, on June 27, 2002, the Commission issued an order on FGT's filing finding that FGT's tariff revisions generally complied with Order No. 587-N but requiring certain tariff revisions.

Any person desiring to protest said filing should file a protest with the Federal Energy Regulatory Commission, 888 First Street, NE., Washington, DC 20426, in accordance with Section 385.211 of the Commission's Rules and Regulations. All such protests must be filed on or before July 19, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-18096 Filed 7-17-02; 8:45 am]

BILLING CODE 6717-01-P